FEDERAL COMMUNICATIONS COMMISSION

47 CFR Part 79

[CG Docket No. 05-231; FCC 14-12]

Closed Captioning of Video Programming; Telecommunications for the Deaf and Hard of Hearing; Petition for Rulemaking

AGENCY: Federal Communications Commission.

ACTION: Final rule; announcement of effective date.

SUMMARY: In this document, the Commission announces that the Office of Management and Budget (OMB) has approved, for a period of three years, the information collection associated with the Commission's document Closed Captioning of Video Programming; Telecommunications for the Deaf and Hard of Hearing; Petition for Rulemaking (Report and Order). This document is consistent with the Report and Order, which stated that the Commission would publish a document in the Federal Register announcing the effective date of those rules.

DATES: 47 CFR 79.1(c)(3), (e)(11)(iii), (iv) and (v), (j), and (k), published at 79 FR 17911, March 31, 2014, are effective March 16, 2015.

FOR FURTHER INFORMATION CONTACT: Eliot Greenwald, Disability Rights Office, Consumer and Governmental Affairs Bureau, at (202) 418-2235, or email Eliot.Greenwald@fcc.gov.

SUPPLEMENTARY INFORMATION: This document announces that, on December 18, 2014, OMB approved, for a period of three years, the information collection requirements contained in the Commission's Report and Order, FCC 14-12, published at 79 FR 17911, March 31, 2014. The OMB Control Number is 3060-0761. The Commission publishes this document as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-0761, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on December 18, 2014, for the information collection requirements contained in the Commission's rules at 47 CFR 79.1(c)(3), (e)(11)(iii), (iv) and (v), (j), and (k). Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0761.

The foregoing notice is required by the Paperwork Reduction Act of 1995, Pub. L. 104-13, October 1, 1995, and 44 U.S.C. 3507.

The total annual reporting burdens and costs for the respondents are as follows:

OMB Control Number: 3060-0761.

OMB Approval Date: December 18, 2014.

OMB Expiration Date: December 31, 2017.

Title: Section 79.1, Closed Captioning of Video Programming, CG Docket No. 05-231.

Form Number: N/A.

Type of Review: Revision of a currently approved collection.

Respondents: Business or other for-profit entities; Individuals or households; and Not-for-profit entities.

Number of Respondents and Responses: 22,565 respondents; 1,149,437 responses.

Estimated Time per Response: 0.25 hours (15 minutes) to 120 hours.

Frequency of Response: Annual, one-time and on-occasion reporting requirements; Third party disclosure requirement; Recordkeeping requirement.

Obligation to Respond: Required to obtain or retain benefits. The statutory authority for this obligation is found at section 713 of the Communications Act of 1934, as amended, 47 U.S.C. 613, and implemented at 47 CFR 79.1.

Total Annual Burden: 1,254,358 hours.

Total Annual Cost: $40,220,496.

Nature and Extent of Confidentiality: Confidentiality is an issue to the extent that individuals and households provide personally identifiable information, which is covered under the FCC's system of records notice (SORN), FCC/CGB-1, “Informal Complaints, Inquiries and Request for Dispute Assistance.” As required by the Privacy Act, 5 U.S.C. 552a, the Commission also published a SORN, FCC/CGB-1 “Informal Complaints, Inquiries and Request for Dispute Assistance,” in the Federal Register on August 15, 2014 (79 FR 48152) which became effective on September 24, 2014.

Privacy Impact Assessment: Yes.

Needs and Uses: The Commission seeks to extend existing information collection requirements in its closed captioning rules (47 CFR 79.1), which require that, with some exceptions, all new video programming, and 75 percent of “pre-rule” programming, be closed captioned. The existing collections include petitions by video programming providers, producers, and owners for exemptions from the closed captioning rules, responses by commenters, and replies; complaints by viewers alleging violations of the closed captioning rules, responses by video programming distributors, and recordkeeping in support of complaint responses; and making video programming distributor contact information available to viewers in phone directories, on the Commission's Web site and the Web sites of video programming distributors (if they have them), and in billing statements (to the extent video programming distributors issue them). In addition, the Commission seeks to extend proposed information collection requirements. Specifically, on February 20, 2014, the Commission adopted rules governing the quality of closed captioning on television. Closed Captioning of Video Programming; Telecommunications for the Deaf and Hard of Hearing, Inc. Petition for Rulemaking, CG Docket No. 05-231, Report and Order, Declaratory Ruling, and Further Notice of Proposed Rulemaking, 29 FCC Rcd 2221 (2014), published at 79 FR 17911 (March 31, 2014). The Commission took the following actions, among others:

(a) Required video programming distributors to make best efforts to obtain certification from video programmers that their programming (i) complies with the captioning quality standards established in the Report and Order; (ii) adheres to the Best Practices for video programmers set out in the Report and Order; or (iii) is exempt from the closed captioning rules under one or more properly attained and specified exemptions.

(b) Adopted additional requirements and a “compliance ladder” for broadcasters that use electronic newsroom technique.

(c) Required video programming distributors to keep records of their activities related to the maintenance, monitoring, and technical checks of their captioning equipment.

(d) Required that petitions requesting an exemption based on the economically burdensome standard and all subsequent pleadings, as well as comments, oppositions, or replies to comments, be filed electronically in accordance with 47 CFR 0.401(a)(1)(iii) instead of as a paper filing.

Comments, oppositions, or replies to comments must be served on the other party, by delivering or mailing a copy to the last known address in accordance with 47 CFR 1.47 or by sending a copy to the email address last provided by the party, its attorney, or other duly constituted agent, and must include a certification that the other party was served with a copy.

Federal Communications Commission.
Sheryl D. Todd,
Deputy Secretary, Office of the Secretary, Office of the Managing Director.

[FR Doc. 2014-30379 Filed 12-24-14; 8:45 am]

BILLING CODE 6712-01-P